DEPARTMENT OF COMMERCE

National Oceanic and Atmospheric Administration

50 CFR Part 635

RIN 0648-BA17

Atlantic Highly Migratory Species; Large Coastal and Small Coastal Atlantic Shark Management Measures

AGENCY: National Marine Fisheries Service (NMFS), National Oceanic and Atmospheric Administration (NOAA), Commerce.

ACTION: Notice of rescheduled public hearing.

SUMMARY: On January 20, 2015, NMFS published a proposed rule with public hearing dates for Draft Amendment 6 to the 2006 Consolidated Highly Migratory Species (HMS) Fishery Management Plan (FMP). On February 25, 2015, NMFS announced that the public hearing in Manteo, NC, would be rescheduled due to inclement weather conditions expected for Manteo and surrounding areas. In this notice, NMFS announces the date and location for the rescheduled public hearing to provide opportunities for members of the public to comment on the management measures proposed in Draft Amendment 6.

DATES: The rescheduled public hearing will be held on March 18, 2015, from 5 p.m. to 8 p.m. Written comments will be accepted until April 3, 2015.

ADDRESSES: The rescheduled public hearing will be held in Manteo, NC, at the Dare Country Administration Building, Commissioner's Meeting Room, 954 Marshall C. Collins Drive, Manteo, NC 27954.

FOR FURTHER INFORMATION CONTACT: LeAnn Hogan, Guý DuBeck, Alexis Jackson or Karyl Brewster-Geisz by phone: 301-427-8503, or by fax: 301-713-1917.

SUPPLEMENTARY INFORMATION: Atlantic sharks are managed under the authority of the Magnuson-Stevens Fishery Conservation and Management Act (Magnuson-Stevens Act), and the authority to issue regulations has been delegated from the Secretary to the Assistant Administrator (AA) for Fisheries, NOAA. On October 2, 2006, NMFS published in the Federal Register (71 FR 58058) final regulations, effective November 1, 2006, implementing the 2006 Consolidated HMS FMP, which details management measures for Atlantic HMS fisheries. The implementing regulations for the 2006 Consolidated HMS FMP and its amendments are at 50 CFR part 635.

On January 20, 2015, NMFS published a proposed rule (80 FR 2648) for Draft Amendment 6 to the 2006 Consolidated HMS FMP. Management measures in the proposed rulemaking are designed to respond to the problems facing Atlantic commercial shark fisheries, such as landings that exceed the commercial quotas, declining numbers of fishing permits since limited access was implemented, increasingly complex regulations, derby fishing conditions due to small quotas and short seasons, increasing numbers of regulatory discards, and declining market prices. The primary goal of Amendment 6 to the 2006 Consolidated HMS FMP is to implement management measures for the Atlantic shark fisheries that will achieve the objectives of increasing management flexibility to adapt to the changing needs of the Atlantic shark fisheries, and achieve optimum yield while rebuilding overfished shark stocks and ending overfishing. Specifically, the rule proposes to: Adjust the large coastal sharks (LCS) retention limit for shark directed Limited Access Permit holders; create sub-regional quotas in the Atlantic and Gulf of Mexico regions for LCS and small coastal sharks (SCS); modify the LCS and SCS quota linkages; establish total allowable catches and adjust quotas for non-blacknose SCS in the Atlantic and Gulf of Mexico regions based on the results of the 2013 stock assessments for Atlantic sharpnose and bonnethead sharks; and modify upgrading restrictions for shark permit holders.

On February 25, 2015, NMFS announced via listserv notice, an announcement on the HMS Management Division's Web page, and phone calls to known interested parties that the public hearing that was scheduled in Manteo, NC, on February 26, 2015, would be rescheduled due to inclement weather conditions expected for Manteo and surrounding areas at that time. The public hearing in Manteo, NC, has been rescheduled for March 18, 2015, to provide the opportunity for public comment on potential management measures (see ADDRESSES and DATES).

The public is reminded that NMFS expects participants at the public hearings to conduct themselves appropriately. At the beginning of each public hearing, a representative of NMFS will explain the ground rules (e.g., alcohol is prohibited from the hearing room; attendees will be called to give their comments in the order in which they registered to speak; each attendee will have an equal amount of time to speak; and attendees should not interrupt one another). The NMFS representative will attempt to structure the meeting so that all attending members of the public will be able to comment, if they so choose, regardless of the controversial nature of the subject(s). Attendees are expected to respect the ground rules, and, if they do not, they may be asked to leave the hearing.

Authority: 16 U.S.C. 971 et seq.; 16 U.S.C. 1801 et seq.

Dated: March 4, 2015.
Alan D. Risenhoover,
Director, Office of Sustainable Fisheries, National Marine Fisheries Service.

[FR Doc. 2015-05380 Filed 3-6-15; 8:45 am]

BILLING CODE 3510-22-P